INTERNATIONAL TRADE COMMISSION

[Investigation Nos. 731-TA-678, 679, 681, and 682 (Second Review)]

Stainless Steel Bar From Brazil, India, Japan, And Spain

Determinations

On the basis of the record¹ developed in the subject five-year reviews, the United States International Trade Commission (Commission) determines, pursuant to section 751(c) of the Tariff Act of 1930 (19 U.S.C. 1675(c)) (the Act), that revocation of the antidumping duty orders on stainless steel bar from Brazil, India, Japan, and Spain would be likely to lead to continuation or recurrence of material injury to an industry in the United States within a reasonably foreseeable time.²

¹ The record is defined in sec. 207.2(f) of the Commission's Rules of Practice and Procedure (19 CFR 207.2(f)).

² Chairman Daniel R. Pearson and Commissioner Deanna Tanner Okun dissenting with respect to Brazil and Spain.

Background

The Commission instituted these reviews on March 1, 2006 (71 FR 10552) and determined on June 5, 2006 that it would conduct full reviews (71 FR 34391, June 14, 2006). Notice of the scheduling of the Commission's reviews and of a public hearing to be held in connection therewith was given by posting copies of the notice in the Office of the Secretary, U.S. International Trade Commission, Washington, DC, and by publishing the notice in the Federal Register on June 20, 2006 (71 FR 36359). The hearing was held in Washington, DC, on October 12, 2006, and all persons who requested the opportunity were permitted to appear in person or by counsel.

The Commission transmitted its determinations in these reviews to the Secretary of Commerce on January 5, 2007. The views of the Commission are contained in USITC Publication 3895 (January, 2007), entitled Stainless Steel Bar from Brazil, India, Japan, and Spain: Investigation Nos. 731-TA-678, 679, 681, 682 (Second Review).

By order of the Commission.
Issued: January 5, 2007.
Marilyn R. Abbott,
Secretary to the Commission.

[FR Doc. E7-191 Filed 1-9-07; 8:45 am]

BILLING CODE 7020-02-P